DEPARTMENT OF HOMELAND SECURITY

Coast Guard

33 CFR Part 117

[Docket No. USCG-2017-0761]

Drawbridge Operation Regulation; Norwalk River, Norwalk, CT

AGENCY: Coast Guard, DHS.

ACTION: Notice of deviation from drawbridge regulation.

SUMMARY: The Coast Guard has issued a temporary deviation from the operating schedule that governs the Washington Street S136 Bridge across the Norwalk River, mile 0.0 at Norwalk, Connecticut. This deviation is necessary to facilitate electrical repairs and will allow the owner to temporarily close the draw for a period not to exceed 10 hours.

DATES: This deviation is effective from 7 p.m. on August 14, 2017 through 5 a.m. on August 15, 2017.

ADDRESSES: The docket for this deviation, USCG-2017-0761, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email James.M.Moore2@uscg.mil.

SUPPLEMENTARY INFORMATION: The owner of the bridge, the Connecticut Department of Transportation, requested a temporary deviation in order to facilitate repair and replacement of electrical conduits controlling span power lock and control.

The Washington Street S136 Bridge across the Norwalk River, mile 0.0 at Norwalk, Connecticut is a double-leaf bascule bridge with a vertical clearance of 9 feet at mean high water and 16 feet at mean low water in the closed position. The existing drawbridge operating regulations are listed at 33 CFR 117.217(a).

The temporary deviation will allow the Washington Street S136 Bridge to remain closed from 7 p.m. on August 14, 2017 through 5 a.m. on August 15, 2017. The waterway is used primarily by seasonal recreational vessels and occasional tug/barge traffic. Coordination with waterway users has indicated no objections to the proposed short-term closure of the draw.

Vessels that can pass under the bridge without an opening may do so at all times. The bridge will not be able to open for emergencies. There is no alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 4, 2017.
Christopher J. Bisignano,
Supervisory Bridge Management Specialist, First Coast Guard District.

[FR Doc. 2017-16825 Filed 8-9-17; 8:45 am]

BILLING CODE 9110-04-P